NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by October 15, 2019. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 670 as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2020-001

1. Applicant: Sarah Airriess, 16 Earl Street, Cambridge, UK, CB1 1JR.

Activity for Which Permit is Requested: Enter Antarctic Specially Protected Areas. The applicant, a writer supported by NSF's Antarctic Artists and Writers Program, would enter ASPAs 122, 124, 155, and 158 to visit the Ross Island historic huts and other sites of historic and scientific interest. The observations, sketches, and photographs made during these visits will inform the applicant's graphic novel about the Antarctic history, research, and daily life. The applicant would enter the huts with a trained guide, would be escorted by technical experts as appropriate, and would abide by the management plans of all ASPAs visited. The results of this work are expected to be useful for outreach and education about Antarctica and the scientific research conducted there.

Location: ASPA 122, Arrival Heights, Hut Point Peninsula, Ross Island; ASPA 124, Cape Crozier, Ross Island; ASPA 155, Cape Evans, Ross Island; ASPA 158 Hut Point, Ross Island.

Dates of Permitted Activities: November 1, 2019-January 1, 2020.

Permit Application: 2020-002

2. Applicant: Paul Ponganis, CMBB, Scripps Institute of Oceanography, UC San Diego, La Jolla, CA 92093-0204.

Activity for Which Permit is Requested: Take, Harmful Interference, Enter Antarctic Specially Protected Areas (ASPAs). The applicant proposes to capture up to 23 non-breeding adult or sub-adult emperor penguins (Aptenodytes forsteri) from the McMurdo Sound area or, if necessary, Cape Washington, ASPA 173. The applicant would access ASPA 173 by small, fixed-wing aircraft in accordance with the ASPA management plan. The penguins would be subjects in a study of diving physiology and would be kept captive on the sea ice for the length of the study. The captive penguins would be able to dive and forage at will. Under general anesthesia, recorders would be attached to the penguins in order to measure oxygen in the air sacs or blood, heart rate/stroke rate, and depth/activity or, in some penguins, to collect blood samples during diving. Typically, the recorders would be attached to an individual penguin for one or two days after which the recorders would be removed under general anesthesia. Another study would involve assessing underwater feeding and navigation via an attached camera/activity recorder. Following the study, the penguins would be released at the McMurdo Sound sea ice edge. Any penguins from the Cape Washington colony would be capable of navigating back to that area.

Location: McMurdo Sound, Antarctica; ASPA 173, Cape Washington and Silverfish Bay; Coulman Island.

Dates of Permitted Activities: October 1-December 20, 2019.

Permit Application: 2020-003

3. Applicant: Todd D. Anderson, 602 Queens Ct, Clemson, SC 29631.

Activity for Which Permit is Requested: Enter Antarctic Specially Protected Areas. The applicant, a writer supported by NSF's Antarctic Artists and Writers Program, would enter ASPAs 122, 155, 157 and 158 to visit the Ross Island historic huts and other sites of historic and scientific interest. The observations, sketches, and photographs made during these visits will inform the applicant's book about the Antarctic history, research, and daily life. The applicant would enter the huts with a trained guide, would be escorted by technical experts as appropriate, and would abide by the management plans of all ASPAs visited. The applicant would not enter ASPA 121, Cape Royds, Ross Island. The results of this work are expected to be useful for outreach and education about Antarctica and the scientific research conducted there.

Location: ASPA 122, Arrival Heights, Hut Point Peninsula, Ross Island; ASPA 155, Cape Evans, Ross Island; ASPA 157, Backdoor Bay, Cape Royds, Ross Island; ASPA 158 Hut Point, Ross Island.

Dates of Permitted Activities: November 5-December 10, 2019.

Erika N. Davis,
Program Specialist, Office of Polar Programs.

[FR Doc. 2019-19775 Filed 9-11-19; 8:45 am]

BILLING CODE 7555-01-P